INTERNATIONAL TRADE COMMISSION

Sunshine Act Meeting

AGENCY HOLDING THE MEETING: United States International Trade Commission.

TIME AND DATE: April 27, 2000 at 11 a.m.

PLACE: Room 101, 500 E Street SW., Washington, DC 20436, Telephone: (202) 205-2000.

STATUS: Open to the public.

MATTERS TO BE CONSIDERED:

1. Agenda for future meeting: none.

2. Minutes.

3. Ratification List.

4. Inv. Nos. 731-TA-839-840 (Final)(Certain Cold-Rolled Steel Products from Turkey and Venezuela)—briefing and vote. (The Commission will transmit its determination to the Secretary of Commerce on May 4, 2000.)

5. Outstanding action jackets:

(1.) Document No. ER-00-001: Approval of FY 1999 Annual Report.

In accordance with Commission policy, subject matter listed above, not disposed of at the scheduled meeting, may be carried over to the agenda of the following meeting.

By order of the Commission.
Issued: April 17, 2000.
Donna R. Koehnke,
Secretary.

[FR Doc. 00-10063 Filed 4-18-00; 4:54 pm]

BILLING CODE 7020-02-P